DEPARTMENT OF HEALTH AND HUMAN SERVICES

Centers for Disease Control and Prevention

[60Day-07-04JL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Intervention Development to Increase Cervical Cancer Screening Among Mexican American Women: Phase 2—New—National Center for Chronic Disease Prevention and Health Promotion (NCCDPHP), Centers for Disease Control and Prevention (CDC).

Background and Brief Description

Differences in incidence of invasive cervical cancer exist among some minority populations. Among women older than age 29, cervical cancer incidence for Hispanic women was approximately twice that for non-Hispanic women. Papanicolaou (Pap) tests can prevent cervical cancer. Nevertheless, recent studies suggest that Hispanic women in the United States and Puerto Rico under-use cervical cancer screening tests. Additionally, survey data have shown that Hispanic women in the international border region of the United States under-utilize these Pap tests compared to non-Hispanic women in the same region. The need exists to increase Pap test screening among Hispanic women living in the United States.

The purpose of this project is to refine a multi-component behavioral intervention delivered by lay health workers to increase cervical cancer screening among U.S. and foreign-born Mexican women. The proposed study will use personal interviews and workshops. There will be no cost to respondents other than their time.

Estimated Annualized Burden Hours

Type of data collection | Number of respondents | Number of responses per respondent | Average burden per responses (in hours) | Total burden (in hours)
Personal interviews | 128 | 1 | 2 | 256
Workshops | 60 | 1 | 5.5 | 165
Total |  |  |  | 411

Dated: December 14, 2006.
Joan F. Karr,
Acting Reports Clearance Officer, Centers for Disease Control and Prevention.

[FR Doc. E6-22118 Filed 12-26-06; 8:45 am]

BILLING CODE 4163-18-P